Title 3—

The President

Memorandum of March 18, 2004

Delegation of Certain Authority Under the National Defense Authorization Act for Fiscal Year 2004, Public Law 108-136

Memorandum for the Secretary of Homeland Security

By the authority vested in me as President by the Constitution and the laws of the United States, including section 301 of title 3, United States Code, I hereby delegate to you the functions and authority conferred upon the President by section 1034 of the National Defense Authorization Act for Fiscal Year 2004 (Public Law 108-136) to provide the specified report to the Congress. In addition, I direct you to coordinate with the Secretary of Defense and the Secretary of Transportation regarding the contents of this report.

You are authorized and directed to publish this memorandum in the Federal Register.

B

THE WHITE HOUSE,

Washington, March 18, 2004.

[FR Doc. 04-6477

Filed 3-19-04; 8:45 am]

Billing code 4410-10-M